DEPARTMENT OF HEALTH AND HUMAN SERVICES

Centers for Disease Control and Prevention

Disease, Disability, and Injury Prevention and Control

Special Emphasis Panel (SEP): Impact of Tic Disorders, including Tourette Syndrome, in Youth, on Individuals, Families and Communities (U01), Funding Opportunity Announcement (FOA) DD09-003; and Prevention of Health Risk Behaviors among Youth with Attention-Deficit/Hyperactivity Disorder (U01), FOA DD09-004.

In accordance with Section 10(a)(2) of the Federal Advisory Committee Act (Pub. L. 92-463), the Centers for Disease Control and Prevention (CDC) announces the aforementioned meeting.

Times and Dates:

1 p.m.-4 p.m., May 14, 2009 (Closed).

1 p.m.-4 p.m., May 15, 2009 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to “Impact of Tic Disorders, including Tourette Syndrome, in Youth, on Individuals, Families and Communities (U01), FOA DD09-003; and Prevention of Health Risk Behaviors among Youth with Attention-Deficit/Hyperactivity Disorder (U01), FOA DD09-004.”

Contact Person for More Information: Geneva L. Cashaw, Designated Federal Officer, CDC, 4770 Buford Highway, NE., Mailstop K92, Atlanta, GA 30341, Telephone 770-488-8294.

The Director, Management Analysis and Services Office, has been delegated the authority to sign Federal Register notices pertaining to announcements of meetings and other committee management activities, for both CDC and the Agency for Toxic Substances and Disease Registry.

Dated: April 24, 2009.
Elaine L. Baker,
Director, Management Analysis and Services Office, Centers for Disease Control and Prevention.

[FR Doc. E9-9948 Filed 4-29-09; 8:45 am]

BILLING CODE 4163-18-P